DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request a copy of these documents, call or email the SAMHSA Reports Clearance Officer at (240) 276-0361 or carlos.graham@samhsa.hhs.gov.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Networking Suicide Prevention Hotlines—Evaluation of Imminent Risk (OMB No. 0930-0333)—REVISION

The Substance Abuse and Mental Health Services Administration's (SAMHSA), Center for Mental Health Services (CMHS) funds a National Suicide Prevention Lifeline Network (“Lifeline”), consisting of a toll-free telephone number that routes calls from anywhere in the United States to a network of local crisis centers. In turn, the local centers link callers to local emergency, mental health, and social service resources. This project is a revision of the Evaluation of Imminent Risk and builds on previously approved data collection activities [Evaluation of Networking Suicide Prevention Hotlines Follow-Up Assessment (OMB No. 0930-0274) and Call Monitoring of National Suicide Prevention Lifeline Form (OMB No. 0930-0275)]. The extension data collection is an effort to advance the understanding of crisis hotline utilization and its impact.

The overarching purpose of the proposed Evaluation of Imminent Risk data collection is to evaluate hotline counselors' management of imminent risk callers and third party callers concerned about persons at imminent risk, assess counselor adherence to the Lifeline Policies and Guidelines for Helping Callers at Imminent Risk of Suicide, and identify the types of interventions implemented with imminent risk callers. Specifically, the Evaluation of Imminent Risk will collect data, using the Imminent Risk Form, to inform the network's knowledge of the extent to which counselors are aware of and being guided by Lifeline's imminent risk guidelines; counselors' definitions of imminent risk; the rates of active rescue of imminent risk callers; the types of rescue and non-rescue interventions used; barriers to intervention; and the circumstances in which active rescue is initiated, including the caller's agreement to receive the intervention. To capture differences across centers, the form also collects information on counselors' employment status and hours worked/volunteered, level of education, license status, training status, source of safety planning protocols, and responsibility for follow up.

Clearance is being requested for the activity to assess the knowledge, actions, and practices of counselors to aid callers who are determined to be at imminent risk for suicide and who may require active rescue. This evaluation will allow researchers to examine and understand the actions taken by counselors to aid imminent risk callers, the need for active rescue, the types of interventions used, and, ultimately, improve the delivery of crisis hotline services to imminent risk callers. A total of nine centers will participate in this evaluation. Thus, SAMHSA is requesting OMB review and approval of the Imminent Risk Form.

Crisis counselors at nine participating centers will record information discussed with imminent risk callers on the Imminent Risk Form, which does not require direct data collection from callers. As with previously approved evaluations, callers will maintain anonymity. Participating counselors will be asked to complete the form for 100% of their imminent risk calls. At centers with high call volumes, data collection may be limited to designated shifts. The Imminent Risk Form contains minor changes from the earlier data collection with revised options of either receiving emergency department services or crisis stabilization centers services while the caller was determined to be at imminent risk for suicide. The prior option was for the emergency department or hospital services. This form requests information in 15 content areas, each with multiple sub-items and response options. Response options include open-ended, yes/no, Likert-type ratings, and multiple choice/check all that apply. The form also requests demographic information on the caller, the identification of the center and counselor submitting the form, and the date of the call. Specifically, the form is divided into the following sections: (1) Counselor information, (2) center information, (3) call characteristics (e.g., line called, language spoken, participation of third party), (4) suicidal desire, (5) suicidal intent, (6) suicidal capability, (7) buffers to suicide, (8) interventions agreed to by caller or implemented by counselor without caller's consent, (9) whether imminent risk was reduced enough such that active rescue was not needed, (10) interventions for third party callers calling about a person at imminent risk, (11) whether supervisory consultation occurred during or after the call, (12) barriers to getting needed help to the person at imminent risk, (13) steps taken to confirm whether emergency contact was made with person at risk, (14) outcome of attempts to rescue person at risk, and (15) outcome of attempts to follow-up on the case. The form also includes an Additional Counselor Training section that counselors complete only when applicable. The form will take approximately 15 minutes to complete and will be completed by the counselor after the call. It is expected that a total of 440 forms will be completed by 116 counselors over the two-year data collection period.

The estimated response burden to collect this information is annualized over the requested two-year clearance period and is presented below:

Total and Annualized Burden: Respondents, Responses and Hours
Instrument | Number of respondents | Responses/respondent | Total responses | Hours per response | Total hour burden
National Suicide Prevention Lifeline—Imminent Risk Form | 116 | 1.9 | 220 | .26 | 57

Send comments to Carlos Graham, SAMHSA Reports Clearance Officer at carlos.graham@samhsa.hhs.gov. Written comments should be received by February 9, 2021.

Carlos Graham,
Social Science Analyst.

[FR Doc. 2020-27247 Filed 12-10-20; 8:45 am]

BILLING CODE 4162-20-P